DEPARTMENT OF ENERGY

Federal Energy Regulatory Commission

Combined Notice of Filings

Take notice that the Commission has received the following Natural Gas Pipeline Rate and Refund Report filings:

Filings Instituting Proceedings

Docket Number: PR17-2-000.

Applicants: Eagle Ford Midstream, LP.

Description: Tariff filing per 284.123(b)(2) + (g): Petition for NGPA Section 311 Rate Approval to be effective 10/11/2016; Filing Type: 1310.

Filed Date: 10/11/2016.

Accession Number: 20161011-5302.

Comments Due: 5 p.m. ET 11/1/16.

284.123(g) Protests Due: 5 p.m. ET 12/12/16.

Docket Numbers: RP17-20-000.

Applicants: Chesapeake Energy Marketing, L.L.C., Core Appalachia Midstream, LLC.

Description: Joint Petition of Chesapeake Energy Marketing, L.L.C. and Core Appalachia Midstream LLC for Limited Waiver and Request for Expedited Action.

Filed Date: 10/11/16.

Accession Number: 20161011-5327.

Comments Due: 5 p.m. ET 10/18/16.

Docket Numbers: RP17-21-000.

Applicants: Algonquin Gas Transmission, LLC.

Description: § 4(d) Rate Filing: AIM In-Service Compliance Filing CP14-96-000 to be effective 11/1/2016.

Filed Date: 10/12/16.

Accession Number: 20161012-5131.

Comments Due: 5 p.m. ET 10/24/16.

Docket Numbers: RP17-22-000.

Applicants: Viking Gas Transmission Company.

Description: § 4(d) Rate Filing: Update Non-Conforming Agreements—November 2016 to be effective 11/1/2016.

Filed Date: 10/12/16.

Accession Number: 20161012-5154.

Comments Due: 5 p.m. ET 10/24/16.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: RP16-1205-001.

Applicants: Florida Gas Transmission Company, LLC.

Description: Compliance filing Compliance with RP16-1205-000 Order.

Filed Date: 10/12/16.

Accession Number: 20161012-5142.

Comments Due: 5 p.m. ET 10/24/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated October 13, 2016.
Nathaniel J. Davis, Sr.,
Deputy Secretary.

[FR Doc. 2016-25457 Filed 10-20-16; 8:45 am]

BILLING CODE 6717-01-P